DEPARTMENT OF ENERGY

Federal Energy Regulatory Commission

[Docket No. RP01-278-000]

Texas Gas Transmission Corporation; Notice of Technical Conference

May 31, 2001.

On March 22, 2001, Texas Gas Transmission Corporation (Texas Gas) filed in Docket No. RP01-278-000 a proposal to change its Cash-out mechanism. Several parties have protested various aspects of Texas Gas filing.

Take notice that a technical conference to discuss the vari8ous issues raised by Texas Gas' filing will be held on Tuesday, June 12, 2001, beginning at 10 a.m. in a room to be designated at the offices of the Federal Energy Regulatory Commission, 888 First Street, NE., Washington, DC 20426.

Persons protesting aspects of Texas Gas's filing should be prepared to answer questions and discuss alternatives. Issues pertaining to Texas Gas' filing with respect to historical under recovered costs will not be discussed.

All interested persons are permitted to attend.

David P. Boergers,
Secretary.

[FR Doc. 01-14203 Filed 6-5-01; 8:45 am]

BILLING CODE 6717-01-M